INTERNATIONAL TRADE COMMISSION

[Investigation No. 332-451]

Advice Concerning Possible Modifications to the U.S. Generalized System of Preferences, 2002 Review

AGENCY: International Trade Commission.

ACTION: Correction of notice of investigation.

SUMMARY: The Commission's notice published in the Federal Register on March 7, 2003 (68 FR 11143) contained a typographical error that incorrectly identified one of the HTS subheadings upon which the Commission will provide advice as to the probable economic effect on U.S. industries producing like or directly competitive articles and on consumers of the elimination of U.S. import duties for all beneficiary countries under the GSP. The Commission will provide advice for HTS subheading 7202.93.00; it will not provide advice for HTS subheading 7202.93.00 (pt.).

By order of the Commission.
Issued: March 10, 2003.
Marilyn R. Abbott,
Secretary.

[FR Doc. 03-6124 Filed 3-13-03; 8:45 am]

BILLING CODE 7020-02-P